DEPARTMENT OF THE INTERIOR

Fish and Wildlife Service

50 CFR Part 17

[Docket No. FWS-R1-ES-2013-0028; 4500030113]

RIN 1018-AZ38

Endangered and Threatened Wildlife and Plants; Designating Critical Habitat for Three Plant Species on Hawaii Island

AGENCY: Fish and Wildlife Service, Interior.

ACTION: Proposed rule; reopening of comment period.

SUMMARY: We, the U.S. Fish and Wildlife Service, announce the reopening of the public comment period on our October 17, 2012, proposed designation of critical habitat for three plant species (Bidens micrantha ssp. ctenophylla (kookoolau), Isodendrion pyrifolium (wahine noho kua), and Mezoneuron kavaiense (uhiuhi)) on Hawaii Island under the Endangered Species Act of 1973, as amended (Act). In response to requests we received, we are reopening the comment period to allow all interested parties an opportunity to comment on the proposed designation of critical habitat and the draft economic analysis. Comments previously submitted on the proposed rule or draft economic analysis need not be resubmitted as they will be fully considered in our determinations on this rulemaking action. We also announce a public information meeting on our proposed rule and associated documents.

DATES: Written Comments: We will consider all comments received or postmarked on or before September 3, 2013. Comments submitted electronically using the Federal eRulemaking Portal (see ADDRESSES, below) must be received by 11:59 p.m. Eastern Time on the closing date.

Public Information Meeting: We will hold a public information meeting in Kailua-Kona, Hawaii, on Wednesday, August 7, 2013, from 3 p.m. to 5 p.m. (see ADDRESSES section, below).

ADDRESSES: Document availability: You may obtain copies of the proposed rule on the Internet at http://www.regulations.gov at Docket No. FWS-R1-ES-2012-0070, or by mail from the Pacific Islands Fish and Wildlife Office (see FOR FURTHER INFORMATION CONTACT).

Written Comments: You may submit written comments by one of the following methods:

(1) Electronically: Go to the Federal eRulemaking Portal: http://www.regulations.gov. Search for Docket No. FWS-R1-ES-2013-0028.

(2) By hard copy: Submit comments by U.S. mail or hand-delivery to: Public Comments Processing, Attn: FWS-R1-ES-2013-0028; Division of Policy and Directives Management; U.S. Fish and Wildlife Service; 4401 N. Fairfax Drive, MS 2042-PDM; Arlington, VA 22203.

Public Information Meeting: The public information meeting will be held in the Council Chambers of the West Hawaii Civic Center located at 74-5044 Ane Keohokalole Highway, Kailua-Kona, HI 96740 (telephone 808-323-4444).

We request that you send comments only by the methods described above. We will post all comments on http://www.regulations.gov. This generally means that we will post any personal information you provide us (see the Public Comments section below for more information).

FOR FURTHER INFORMATION CONTACT: Loyal Mehrhoff, Field Supervisor, U.S. Fish and Wildlife Service, Pacific Islands Fish and Wildlife Office, 300 Ala Moana Boulevard, Room 3-122, Honolulu, HI 96850; by telephone 808-792-9400; or by facsimile 808-792-9581. Persons who use a telecommunications device for the deaf (TDD) may call the Federal Information Relay Service (FIRS) at 800-877-8339.

SUPPLEMENTARY INFORMATION:

We are proposing to designate critical habitat for Bidens micrantha ssp. ctenophylla, which we proposed to list as endangered on October 17, 2012 (77 FR 63928), and for two plant species that are already listed as endangered (Isodendrion pyrifolium and Caesalpinia kavaiense (we proposed a taxonomic revision for Caesalpinia kavaiense on October 17, 2012 (77 FR 63928), to change the name to Mezoneuron kavaiense; we will refer to this plant species as Mezoneuron kavaiense in this document)).

Background

On October 17, 2012, the Service published a proposed rule in the Federal Register (77 FR 63928) to list 15 species (13 plants and 2 animals) found on Hawaii Island as endangered. We also proposed critical habitat for 1 of those 13 plant species (Bidens micrantha ssp. ctenophylla). In addition, we proposed critical habitat for two previously listed plant species (Isodendrion pyrifolium and Mezoneuron kavaiense) that do not have designated critical habitat and occur in the same ecosystem as Bidens micrantha ssp. ctenophylla. In all, the critical habitat proposed for these three species is an area totaling 18,766 acres (7,597 hectares), of which approximately 55 percent is already designated as critical habitat for endangered or threatened species. The October 17, 2012, proposal had a 60-day comment period, ending December 17, 2012.

On April 30, 2013, we announced the reopening of the comment period for the proposed listing of the 15 species and proposed critical habitat for 3 species on Hawaii Island, the availability of our draft economic analysis of the proposed critical habitat, and the public hearing and public information meeting scheduled for May 15, 2013 (78 FR 25243). The comment period was reopened for 30 days, ending on May 30, 2013. The Service held a public information meeting and public hearing on May 15, 2013, at the West Hawaii Civic Center, Kailua-Kona, Hawaii. Additional information may be found in the October 17, 2012, proposed rule (77 FR 63928) and the April 30, 2013, reopening of the comment period and availability of the draft economic analysis (78 FR 25243).

Pursuant to a court-ordered deadline, we must make a final determination on whether to list the 15 species by September 30, 2013. In order to allow additional opportunity for public comment on the critical habitat proposal, we plan to publish the final critical habitat determination subsequent to the listing determination.

Public Comments

We are again seeking written comments and information during this reopened comment period on our proposed designation of critical habitat for three plant species that published in the Federal Register on October 17, 2012 (77 FR 63928), and on our draft economic analysis of the proposed critical habitat designation and the amended required determinations that were made available for review on April 30, 2013 (78 FR 25243). The October 17, 2012, proposed rule proposed to list 15 species on the island of Hawaii as endangered, as well as to designate critical habitat for 3 species. However, we will be publishing two final rules, one making a final determination on the listing proposal and another making a final determination on the critical habitat designation.

With regard to the proposed critical habitat determination, we are particularly interested in comments concerning:

(1) The reasons why we should or should not designate habitat as “critical habitat” under section 4 of the Act, including whether there are threats to the species from human activity, the degree of which can be expected to increase due to the designation, and whether that increase in threat outweighs the benefit of designation such that the designation of critical habitat is not prudent.

(2) Specific information on:

(a) The amount and distribution of the species' habitat;

(b) What areas occupied by the species at the time of listing that contain features essential for the conservation of the species we should include in the designation and why;

(c) Special management considerations or protection that may be needed in critical habitat areas we are proposing, including managing for the potential effects of climate change; and

(d) What areas not occupied at the time of listing are essential to the conservation of the species and why.

(3) Land use designations and current or planned activities in the subject areas and their possible impacts on proposed critical habitat.

(4) Any foreseeable economic, national security, or other relevant impacts that may result from designating any area that may be included in the final designation. We are particularly interested in any impacts on small entities and the benefits of including or excluding areas from the proposed designation that are subject to these impacts.

(5) Whether our approach to designating critical habitat could be improved or modified in any way to provide for greater public participation and understanding, or to assist us in accommodating public concerns and comments.

If you submitted comments or information on the proposed rule (77 FR 63928) during the initial comment period from October 17, 2012, to December 17, 2012, or the reopened comment period (78 FR 25243) from April 30, 2013, to May 30, 2013, please do not resubmit them. We have incorporated them into the public record as part of the original comment period, and we will fully consider them in our final determinations.

You may submit your comments and materials concerning the proposed rules by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2013-0028 for the proposed critical habitat designation, or by appointment, during normal business hours, at the U.S. Fish and Wildlife Service, Pacific Islands Fish and Wildlife Office (see FOR FURTHER INFORMATION CONTACT).

Public Information Meeting

We are holding a public information meeting on the date listed in the DATES section at the address listed in the ADDRESSES section (above). We are holding this second public information meeting to provide an additional opportunity for the public to ask questions or seek clarification on the proposed rule and the draft economic analysis. Since this is an informational meeting and not a public hearing, no oral testimony will be taken.

Authority

The authority for this action is the Endangered Species Act of 1973, as amended (16 U.S.C. 1531 et seq.).

Dated: June 20, 2013.
Rachel Jacobson,
Principal Deputy Assistant Secretary for Fish and Wildlife and Parks.

[FR Doc. 2013-15746 Filed 7-1-13; 8:45 am]

BILLING CODE 4310-55-P